DEPARTMENT OF HEALTH AND HUMAN SERVICES

Agency for Toxic Substances and Disease Registry

[ATSDR-253]

Availability of Draft Toxicological Profile for Perfluoroalkyls

AGENCY: Agency for Toxic Substances and Disease Registry (ATSDR), Department of Health and Human Services (HHS).

ACTION: Notice of availability.

SUMMARY: This notice announces the availability of the draft toxicological profile for perfluoroalkyls, prepared by ATSDR, for review and comment.

DATES: In order to be considered, comments on this draft toxicological profile must be received on or before October 30, 2009. Comments received after the public comment period will be considered at the discretion of ATSDR on the basis of what is deemed to be in the best interest of the general public.

ADDRESSES: Requests for a printed copy of the draft toxicological profile should be sent to the attention of Ms. Olga Dawkins, Division of Toxicology and Environmental Medicine, Agency for Toxic Substances and Disease Registry, Mailstop F-32, 1600 Clifton Road, NE., Atlanta, Georgia 30333. Electronic access to the document is also available at the ATSDR Web site: http://www.atsdr.cdc.gov/toxpro2.html.

Requests for printed copies of the draft toxicological profile must be in writing and must specifically identify the toxicological profile that you wish to receive. ATSDR reserves the right to provide free of charge only one copy of each profile requested. In case of extended distribution delays, requestors will be notified.

Comments regarding the draft toxicological profile for perfluoroalkyls should be sent to the attention of Ms. Nickolette Roney, Division of Toxicology and Environmental Medicine, Agency for Toxic Substances and Disease Registry, Mailstop F-62, 1600 Clifton Road, NE., Atlanta, Georgia 30333. Electronic comments may be sent to TPPublicComments@cdc.gov. All comments sent electronically should contain the docket control number ATSDR-253 in the subject line.

Written comments and other data submitted in response to this notice and the draft toxicological profile should bear the docket control number ATSDR-253. Send one copy of all comments and three copies of all supporting documents to Ms. Roney at the above address by the end of the comment period. Because all public comments regarding ATSDR toxicological profiles are available for public inspection, no confidential information should be submitted in response to this notice.

FOR FURTHER INFORMATION CONTACT: Ms. Olga Dawkins, Division of Toxicology and Environmental Medicine, Agency for Toxic Substances and Disease Registry, Mailstop F-62, 1600 Clifton Road, NE., Atlanta, Georgia 30333; telephone number (800) 232-4636 or (770) 488-3315.

SUPPLEMENTARY INFORMATION: This draft toxicological profile for perfluoroalkyls was prepared in accordance with guidelines developed by the Agency for Toxic Substances and Disease Registry and the Environmental Protection Agency (EPA) for the preparation of toxicological profiles. The original guidelines were published in the Federal Register on April 17, 1987. While perfluoroalkyls are not found on the ATSDR Priority List of Hazardous Substances, ATSDR has determined that a profile for these substances was necessary because data indicate that some perfluoroalkyls are found in the blood of the United States general population and in the environment. The agency also determined that it was important to characterize the current available information regarding the health effects from exposure to perfluoroalkyls in order to support and inform public health responses and activities by ATSDR and others. This profile will be revised and republished as necessary.

Section 104(i)(3) of the Comprehensive Environmental Response, Compensation, and Liability Act [42 U.S.C. 9604(i)(3)] outlines the content of the toxicological profiles. Each profile includes an examination, a summary, and an interpretation of available toxicological information and epidemiologic evaluations. This information and these data are to be used to identify the levels of significant human exposure to a substance and the associated health effects. The profiles must also include a determination of whether adequate information on the health effects of each substance is available or in the process of development. When adequate information is not available, ATSDR, in cooperation with the National Toxicology Program (NTP), will initiate a research program to determine these health effects.

Although key studies for this substance were considered during the profile development process, this Federal Register notice solicits any additional studies, particularly unpublished data and ongoing studies, which will be evaluated for possible addition to the profile now or in the future.

The following draft toxicological profile will be made available to the public on or about July 6, 2009.

Document | Toxicological profile | CAS No.
1 | PERFLUOROALKYLS | 000375-22-4 000335-67-1 001763-23-1

All profiles issued as “Draft for Public Comment” represent ATSDR's best efforts to provide important toxicological information on priority substances. We are seeking public comments and additional information that may be used to supplement this profile. ATSDR remains committed to providing a public comment period for these documents as the best means to serve public health and our clients.

Ken Rose,
Director, Office of Policy, Planning, and Evaluation, National Center for Environmental Health/Agency for Toxic Substances and Disease Registry.

[FR Doc. E9-17529 Filed 7-22-09; 8:45 am]

BILLING CODE 4163-70-P